DEPARTMENT OF COMMERCE

International Trade Administration

[C-201-810]

Certain Cut-to-Length Carbon Steel Plate From Mexico: Extension of Time Limit for Preliminary Results of Countervailing Duty Administrative Review

AGENCY: Import Administration, International Trade Administration, Department of Commerce.

ACTION: Notice of extension of time limit for preliminary results of countervailing duty administrative review.

EFFECTIVE DATE: March 26, 2003.

FOR FURTHER INFORMATION CONTACT: Lyman G. Armstrong at (202) 482-3601, AD/CVD Enforcement, Office VI, Group II, Import Administration, International Trade Administration, U.S. Department of Commerce, 14th Street and Constitution Avenue, NW., Washington, DC 20230.

Time Limits

Statutory Time Limits

Section 751(a)(3)(A) of the Tariff Act of 1930, as amended (the Act), requires the Department to issue the preliminary results of a review within 245 days after the last day of the anniversary month of an order/finding for which a review is requested and the final results within 120 days after the date on which the preliminary results are published. However, if it is not practicable to complete the review within that time period, section 751(a)(3)(A) of the Act allows the Department to extend the time limit for the preliminary results to a maximum of 365 days and for the final results to 180 days (or 300 days if the Department does not extend the time limit for the preliminary results) from the date of the publication of the preliminary results.

Background

On September 20, 2002, the Department initiated an administrative review of the countervailing duty order on certain cut-to-length carbon steel plate from Mexico. See 67 FR 60210. The preliminary results are currently due no later than May 5, 2003.

Extension of Time Limit for Preliminary Results of Review

Petitioners have alleged several new countervailable subsidies and a number of issues and adjustments in this review that require additional consideration and analysis. Therefore, the Department is extending the time limits for completion of the preliminary results until September 2, 2003. See the Decision Memorandum from Melissa G. Skinner, Director, Office of AD/CVD Enforcement VI, to Gary S. Taverman, Acting Deputy Assistant Secretary for AD/CVD Enforcement Group II, dated concurrent with this notice, which is on file in the Central Records Unit.

This extension is in accordance with section 751(a)(3)(A) of the Act.

Dated: March 20, 2003.
Gary S. Taverman,
Acting Deputy Assistant Secretary for AD/CVD Enforcement Group II.

[FR Doc. 03-7262 Filed 3-25-03; 8:45 am]

BILLING CODE 3510-DS-P